DEPARTMENT OF HOMELAND SECURITY

U.S. Citizenship and Immigration Services

[CIS No. 2641-19; DHS Docket No. USCIS-2018-0005]

RIN 1615-ZB78

Continuation of Documentation for Beneficiaries of Temporary Protected Status Designations for Sudan, Nicaragua, Haiti, and El Salvador

AGENCY: U.S. Citizenship and Immigration Services, Department of Homeland Security.

ACTION: Notice.

SUMMARY: Through this notice, the Department of Homeland Security (DHS) announces actions to ensure its continued compliance with the preliminary injunction order of the U.S. District Court for the Northern District of California in Ramos v. Nielsen, No. 18-cv-01554 (N.D. Cal. Oct. 3, 2018) (“preliminary injunction”). Beneficiaries under the Temporary Protected Status (TPS) designations for Sudan, Nicaragua, Haiti, and El Salvador will retain their TPS while the preliminary injunction remains in effect, provided that an individual's TPS is not withdrawn under Immigration and Nationality Act (INA) section 244(c)(3) or 8 CFR 244.14 because of ineligibility.

DHS is further announcing it is automatically extending through January 2, 2020, the validity of TPS-related Employment Authorization Documents (EADs), Forms I-797, Notice of Action (Approval Notice), and Forms I-94 (Arrival/Departure Record) (collectively “TPS-Related Documentation”), as specified in this notice, for beneficiaries under the TPS designations for Sudan, Nicaragua, Haiti, and El Salvador, provided that the affected TPS beneficiaries remain otherwise individually eligible for TPS. See INA section 244(c)(3). This Notice also provides information explaining DHS's plans to issue a subsequent notice that will describe the steps DHS will take after January 2, 2020, should continued compliance with the preliminary injunction be necessary.

DATES: The TPS designations of Sudan, Nicaragua, Haiti, and El Salvador will remain in effect, as required by the preliminary injunction order of the U.S. District Court for the Northern District of California in Ramos v. Nielsen, No. 18-cv-01554 (N.D. Cal. Oct. 3, 2018), so long as the preliminary injunction remains in effect. TPS for those countries will not be terminated unless and until any superseding, final, non-appealable judicial order permits the implementation of such terminations. Information on the status of the preliminary injunction will be available at http://uscis.gov/tps.

Further, DHS is automatically extending the validity of TPS-Related Documentation for those beneficiaries under the TPS designations for Sudan, Nicaragua, Haiti, and El Salvador, as specified in this Notice. Those documents will remain in effect for nine months through January 2, 2020, provided the individual's TPS is not withdrawn under INA section 244(c)(3) or 8 CFR 244.14 because of ineligibility. See 83 FR 54764 (Oct. 31, 2018) (notice stating that should Ramos injunction continue beyond April 2, 2019, DHS will publish a subsequent notice to extend TPS-related Documentation of eligible beneficiaries under the TPS designations of Sudan, Nicaragua, Haiti, and El Salvador for nine months from that date).

In the event the preliminary injunction is reversed and that reversal becomes final, DHS will allow for an orderly transition period, as described in the “Possible Future Action” section of this Notice.

FOR FURTHER INFORMATION CONTACT:

• You may contact Samantha Deshommes, Chief, Regulatory Coordination Division, Office of Policy and Strategy, U.S. Citizenship and Immigration Services, U.S. Department of Homeland Security, by mail at 20 Massachusetts Avenue NW, Washington, DC 20529-2060, or by phone at 800-375-5283.

• For further information on TPS, please visit the USCIS TPS web page at http://www.uscis.gov/tps. You can find specific information about this continuation of the TPS benefits for eligible individuals under the TPS designations for Sudan, Nicaragua, Haiti, and El Salvador by selecting the respective country's page from the menu on the left side of the TPS web page.

• If you have additional questions about TPS, please visit uscis.gov/tools. Our online virtual assistant, Emma, can answer many of your questions and point you to additional information on our website. If you are unable to find your answers there, you may also call our USCIS Contact Center at 800-375-5283.

• Applicants seeking information about the status of their individual cases may check Case Status Online, available on the USCIS website at http://www.uscis.gov, or call the USCIS Contact Center at 800-375-5283 (TTY 800-767-1833).

• Further information will also be available at local USCIS offices upon publication of this Notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-94—Arrival/Departure Record

FR—Federal Register

Government—U.S. Government

IJ—Immigration Judge

INA—Immigration and Nationality Act

IER—U.S. Department of Justice Civil Rights Division, Immigrant and Employee Rights Section

SAVE—USCIS Systematic Alien Verification for Entitlements Program

Secretary—Secretary of Homeland Security

TNC—Tentative Nonconfirmation

TPS—Temporary Protected Status

TTY—Text Telephone

USCIS—U.S. Citizenship and Immigration Services

Background on Temporary Protected Status (TPS)

• TPS is a temporary immigration status granted to eligible nationals of a country designated for TPS under the INA, or to eligible persons without nationality who last habitually resided in the designated country.

• During the TPS designation period, TPS beneficiaries are eligible to remain in the United States, may not be removed, and are authorized to obtain EADs so long as they continue to meet the requirements of TPS.

• TPS beneficiaries may also apply for and be granted travel authorization as a matter of discretion.

• The granting of TPS does not result in or lead to lawful permanent resident status.

• To qualify for TPS, beneficiaries must meet the eligibility standards at INA section 244(c)(1)-(2), 8 U.S.C. 1254a(c)(1)-(2).

• When the Secretary terminates a country's TPS designation, beneficiaries return to one of the following:

○ The same immigration status or category that they maintained before TPS, if any (unless that status or category has since expired or been terminated); or

○ Any other lawfully obtained immigration status or category they received while registered for TPS, as long as it is still valid on the date TPS terminates.

Purpose of This Action

Through this Federal Register notice, the Department of Homeland Security (DHS) announces actions to ensure its continued compliance with the preliminary injunction order of the U.S. District Court for the Northern District of California in Ramos v. Nielsen, No. 18-cv-01554 (N.D. Cal. Oct. 3, 2018). Beneficiaries under the TPS designations for Sudan, Nicaragua, Haiti, and El Salvador will retain their TPS while the preliminary injunction remains in effect, provided that an individual's TPS status is not withdrawn under INA section 244(c)(3) because of ineligibility. See also 8 CFR 244.14.

DHS is further announcing it is automatically extending through January 2, 2020, the validity of TPS-related Employment Authorization Documents (EADs), Forms I-797, Notice of Action (Approval Notice), and Forms I-94 (Arrival/Departure Record) (collectively “TPS-Related Documentation”), as specified in this notice, for beneficiaries under the TPS designations for Sudan, Nicaragua, Haiti, and El Salvador, provided that the affected TPS beneficiaries remain otherwise individually eligible for TPS. See INA section 244(c)(3). This notice also provides information explaining DHS's plans to issue a subsequent notice that will describe the steps DHS will take after January 2, 2020, to continue its compliance with the preliminary injunction should such compliance be required.

Automatic Extension of EADs

Through this Federal Register notice, DHS automatically extends through January 2, 2020, the validity of EADs with the category codes “A-12” or “C-19” and one of the expiration dates shown below that have been issued under the TPS designations of Sudan, Nicaragua, Haiti, and El Salvador: ¹

¹ This chart also includes the expired EADs for those beneficiaries under the TPS designations for Haiti and El Salvador with pending re-registration applications who were issued individual notices automatically extending their expired EADs through January 17, 2019 and March 4, 2019. For verification of employment eligibility and immigration status, USCIS is auto-extending the expired EADs, bearing the dates July 22, 2017 and January 22, 2018 (for EADs issued to beneficiaries under the TPS designation for Haiti), and March 9, 2018 and September 9, 2019 (for EADs issued to beneficiaries under the TPS designation for El Salvador).

07/22/2017
11/02/2017
01/05/2018
01/22/2018
03/09/2018
11/02/2018
01/05/2019
04/02/2019
07/22/2019
09/09/2019

Additionally, a beneficiary under the TPS designations for Sudan, Nicaragua, Haiti, or El Salvador who applied for a new EAD but who has not yet received his or her new EAD is also covered by this automatic extension, provided that the EAD he or she possesses contains one of the expiration dates noted in the chart above. Such individuals may show this Federal Register notice and their EAD to employers to demonstrate they have employment authorization and that their TPS-Related Documentation has been extended through January 2, 2020. This Notice explains how TPS beneficiaries and their employers may determine which EADs are automatically extended and how this affects the Form I-9, Employment Eligibility Verification, E-Verify, and USCIS Systematic Alien Verification for Entitlements (SAVE) processes.

Automatic Extension of Forms I-94 (Arrival/Departure Record) and Forms I-797 (Notice of Action (Approval Notice))

In addition, through this Federal Register notice, DHS automatically extends through January 2, 2020, the validity periods of the following Forms I-94 and Forms I-797, Notice of Action (Approval Notice), previously issued to eligible beneficiaries granted TPS under the designations for Sudan, Nicaragua, Haiti, and El Salvador:

Country | Beginning date of validity: | End date of validity:
Sudan | May 3, 2016 Nov. 3, 2017 | Nov. 2, 2017. Nov. 2, 2018.
Nicaragua | July 6, 2016 Jan. 6, 2018 | Jan. 5, 2018. Jan. 5, 2019.
Haiti | Jul. 23, 2017 Jan. 23, 2018 | Jan. 22, 2018. July 22, 2019.
El Salvador | Sept. 10, 2016 Mar. 10, 2018 | Mar. 9, 2018. Sept. 9, 2019.

However, the extension of this validity period applies only if the eligible TPS beneficiary properly filed for TPS re-registration during the most recent DHS-announced registration period for the applicable country, or in the case of Haiti, during the most recent such re-registration period or the re-registration period prescribed in the May 24, 2017 Federal Register notice (82 FR 23830), or has a re-registration application that remains pending. In addition, the extension does not apply if the TPS of any such individual has been finally withdrawn. This notice does not extend the validity date of any TPS-related Form I-94 or Form I-797, Notice of Action (Approval Notice), issued to a TPS beneficiary that contains an end date not on the chart above where the individual has failed to file for TPS re-registration, or where his or her re-registration request has been finally denied.

Application Procedures

Current beneficiaries under the TPS designations for Sudan, Nicaragua, Haiti, and El Salvador do not need to pay a fee or file any application, including the Application for Employment Authorization (Form I-765), to maintain their TPS benefits through January 2, 2020, if they have properly re-registered for TPS during the most recent DHS-announced registration period for their country. TPS beneficiaries who have failed to re-register properly for TPS during the last registration period may still file Form I-821 (Application for Temporary Protected Status) but must demonstrate “good cause” for failing to re-register on time, as required by law. See INA section 244(c)(3)(C) (TPS beneficiary's failure to register without good cause in form and manner specified by DHS is ground for TPS withdrawal); 8 CFR 244.17(b) and Instructions to Form I-821. Any eligible beneficiary under the TPS designations for Sudan, Nicaragua, Haiti, or El Salvador who either does not possess an EAD that is automatically extended by this Notice, or wishes to apply for a new EAD may file Form I-765 with appropriate fee (or fee waiver request). If approved, USCIS will issue an EAD with a January 2, 2020, expiration date. Similarly, USCIS will issue an EAD with a January 2, 2020 expiration date for those with pending EAD applications that are ultimately approved.

Possible Future Action

If it becomes necessary to comply with statutory requirements for TPS re-registration during the pendency of the Court's Order or any superseding court order concerning the beneficiaries under the TPS designations for Sudan, Nicaragua, Haiti, and El Salvador, DHS may announce re-registration procedures in a future Federal Register notice. See section 244(c)(3)(C) of the INA; 8 CFR 244.17.

In the event the preliminary injunction is reversed and that reversal becomes final, DHS will allow for an orderly transition period, ending on the later of (a) 120 days from the effective date of such a superseding, final order, or (b) on the Secretary's previously-announced effective date for the termination of TPS designations for each individual country, as follows:

• Sudan—N/A; ²

² Any 120-day transition period would end later than the Secretary's previously-announced effective dates for the termination of TPS designations for Sudan and Nicaragua (November 2, 2018 and January 5, 2019 respectively).

• Nicaragua—N/A;

• Haiti—July 22, 2019;

• El Salvador—September 9, 2019.

To the extent that a Federal Register notice has auto-extended TPS-Related Documentation beyond the 120-day orderly transition period, DHS reserves the right to issue a subsequent Federal Register notice announcing an expiration date for the documentation that corresponds to the last day of the 120-day orderly transition period.

Additional Notes

Nothing in this notice affects DHS's ongoing authority to determine on a case-by-case basis whether TPS beneficiaries continue to meet the individual eligibility requirements for TPS described in section 244(c) of the INA and the implementing regulations in part 244 of Title 8 of the Code of Federal Regulations.

Notice of Compliance With Court Order Enjoining the Implementation and Enforcement of Determinations To Terminate the TPS Designations of Sudan, Nicaragua, Haiti, and El Salvador

As required by the preliminary injunction order of the U.S. District Court for the Northern District of California in Ramos v. Nielsen, No. 18-cv-01554 (N.D. Cal. Oct. 3, 2018), the previously-announced determinations to terminate the existing designations of TPS for Sudan, Nicaragua, Haiti, and El Salvador ³ will not be implemented or enforced unless and until the District Court's Order is reversed and that reversal becomes final for some or all of these four countries.

³ See Termination of the Designation of Sudan for Temporary Protected Status, 82 FR 47228 (Oct. 11, 2017); Termination of the Designation of Nicaragua for Temporary Protected Status, 82 FR 59636 (Dec. 15, 2017); Termination of the Designation of Haiti for Temporary Protected Status, 83 FR 2648 (Jan. 18, 2018); Termination of the Designation of El Salvador for Temporary Protected Status, 83 FR 2654 (Jan. 18, 2018).

In further compliance with the Order, DHS is publishing this Federal Register Notice automatically extending the validity of the TPS-Related Documentation specified above in the Supplementary Information section of this Notice for nine months from April 2, 2019 through January 2, 2020, for eligible beneficiaries under the TPS designations for Sudan, Nicaragua, Haiti, and El Salvador.

Any termination of TPS-Related Documentation for beneficiaries under the TPS designations for Sudan, Nicaragua, Haiti, and El Salvador will go into effect on the later of: (a) 120 days from the effective date of any superseding, final, non-appealable judicial order that permits the implementation of such terminations, or (b) on the Secretary's previously-announced effective date for the termination of TPS designations for each individual country. To the extent that a subsequent Federal Register notice has auto-extended TPS-Related Documentation beyond the 120-day orderly transition period, DHS reserves the right to issue another Federal Register notice invalidating the documents at the end of the orderly transition period.

DHS will issue another Federal Register notice approximately 30 days before January 2, 2020, that will either extend TPS-Related Documentation for an additional nine months from January 2, 2020, or provide appropriate procedures for obtaining renewed TPS documentation for all affected eligible beneficiaries under the TPS designations for Sudan, Nicaragua, Haiti, and El Salvador. DHS will continue to issue Federal Register notices at nine-month intervals so long as the preliminary injunction remains in place and will continue its commitment to a 120-day orderly transition period, as described above.

All TPS beneficiaries must continue to maintain their TPS eligibility by meeting the requirements for TPS in INA section 244(c) and part 244 of Title 8 of the Code of Federal Regulations. DHS will continue to adjudicate any pending TPS re-registration and pending late initial applications for affected beneficiaries from the four countries, and continue to make appropriate individual TPS withdrawal decisions in accordance with existing procedures if an individual no longer maintains TPS eligibility. DHS may continue to announce periodic re-registration procedures for eligible TPS beneficiaries in accordance with the INA and DHS regulations. Should the preliminary injunction order remain in effect, DHS will take appropriate steps to continue its compliance with the preliminary injunction and all statutory requirements.

Claire M. Grady,
Under Secretary for Management and Senior Official Performing the Duties of the Deputy Secretary.

Approved Forms To Demonstrate Continuation of Lawful Status and TPS-Related Employment Authorization

• This Federal Register Notice March 1, 2019.

○ Through operation of this Federal Register notice, the existing EADs of affected TPS beneficiaries are automatically extended through January 2, 2020.

○ A beneficiary granted TPS under the designations for Sudan, Nicaragua, Haiti, and El Salvador may show a copy of this notice, along with his or her specified EAD, to his or her employer to demonstrate identity and continued TPS-related employment eligibility for purposes of meeting the Employment Eligibility Verification (Form I-9) requirements.

○ Alternatively, such a TPS beneficiary may choose to show other acceptable documents that are evidence of identity and employment eligibility as described in the Instructions to Employment Eligibility Verification (Form I-9).

○ Finally, such a TPS beneficiary may show a copy of this notice, along with his or her specified EAD, Form I-94, or Form I-797, Notice of Action (Approval Notice), as evidence of his or her lawful status to law enforcement, federal, state, and local government agencies, and private entities.

• Employment Authorization Document (EAD)

Am I eligible to receive an automatic extension of my current EAD through January 2, 2020 using this Federal Register notice?

Yes. This Federal Register notice automatically extends your EAD through January 2, 2020, if you are a national of Sudan, Nicaragua, Haiti, or El Salvador (or an alien having no nationality who last habitually resided in Sudan, Nicaragua, Haiti, or El Salvador) who has TPS, and your EAD contains a category code of A-12 or C-19 and one of the expiration dates shown below:

07/22/2017

11/02/2017

01/05/2018

01/22/2018

03/09/2018

11/02/2018

01/05/2019

04/02/2019

07/22/2019

09/09/2019

When hired, what documentation may I show to my employer as evidence of employment authorization and identity when completing Employment Eligibility Verification (Form I-9)?

You can find lists of acceptable documents on the “Acceptable Documents” web page for Form I-9 at https://www.uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which is evidence of employment authorization), or you may present an acceptable receipt for List A, List B, or List C documents as described in the Form I-9 Instructions. Employers may not reject a document based on a future expiration date. You can find additional information about Form I-9 on the I-9 Central web page at http://www.uscis.gov/I-9Central.

An EAD is an acceptable document under List A.

If your EAD has category code of A-12 or C-19 and an expiration date from the column below, you may show your expired EAD along with this Federal Register notice to complete Form I-9: | Enter this date in Section 1 of Form I-9: | Your employer must reverify your employment authorization by:
07/22/2017 | Jan. 2, 2020 | Jan. 3, 2020.
11/02/2017 | Jan. 2, 2020 | Jan. 3, 2020.
01/05/2018 | Jan. 2, 2020 | Jan. 3, 2020.
01/22/2018 | Jan. 2, 2020 | Jan. 3, 2020.
03/09/2018 | Jan. 2, 2020 | Jan. 3, 2020.
11/02/2018 | Jan. 2, 2020 | Jan. 3, 2020.
01/05/2019 | Jan. 2, 2020 | Jan. 3, 2020.
04/02/2019 | Jan. 2, 2020 | Jan. 3, 2020.
07/22/2019 | Jan. 2, 2020 | Jan. 3, 2020.
09/09/2019 | Jan. 2, 2020 | Jan. 3, 2020.

If you want to use your EAD with one of the specified expiration dates above, and that date has passed, then you may also provide your employer with a copy of this Federal Register notice, which explains that your EAD has been automatically extended temporarily through January 2, 2020.

What documentation may I present to my employer for Employment Eligibility Verification (Form I-9) if I am already employed but my current TPS-related EAD is set to expire?

Even though your EAD has been automatically extended, your employer is required by law to ask you about your continued employment authorization, and you will need to present your employer with evidence that you are still authorized to work. Once presented, you may correct your employment authorization expiration date in Section 1 and your employer should correct the EAD expiration date in Section 2 of Form I-9. See the subsection titled, “What corrections should my current employer and I make to Employment Eligibility Verification (Form I-9) if my employment authorization has been automatically extended?” for further information. You may show this Federal Register notice to your employer to explain what to do for Form I-9 and to show that your EAD has been automatically extended through January 2, 2020. Your employer may need to re-inspect your automatically extended EAD to check the expiration date and Category code if your employer did not keep a copy of this EAD when you initially presented it.

The last day of the automatic EAD extension for eligible beneficiaries under the TPS designations for Sudan, Nicaragua, Haiti, and El Salvador is January 2, 2020. Before you start work on January 3, 2020, your employer is required by law to reverify your employment authorization. At that time, you must present any document from List A or any document from List C on Form I-9 Lists of Acceptable Documents, or an acceptable List A or List C receipt described in the Form I-9 Instructions to reverify employment authorization.

By January 3, 2020, your employer must complete Section 3 of the current version of the form, Form I-9 07/17/17 N, and attach it to the previously completed Form I-9, if your original Form I-9 was a previous version. Your employer can check USCIS' I-9 Central web page at http://www.uscis.gov/I-9Central for the most current version of Form I-9.

Note that your employer may not specify which List A or List C document you must present and cannot reject an acceptable receipt.

Can I seek a new EAD?

You do not need to apply for a new EAD in order to benefit from this automatic extension. However, if you want to obtain a new EAD valid through January 2, 2020, you must file an Application for Employment Authorization (Form I-765) and pay the Form I-765 fee (or request a fee waiver). Note, if you do not want a new EAD, you do not have to file Form I-765 or pay the Form I-765 fee. If you do not want to request a new EAD now, you may also file Form I-765 at a later date and pay the fee (or request a fee waiver), provided that you still have TPS or a pending TPS application. You may file the application for a new EAD either before or after your current EAD has expired.

If you are unable to pay the application fee and/or biometric services fee, you may complete a Request for Fee Waiver (Form I-912) or submit a personal letter requesting a fee waiver with satisfactory supporting documentation. For more information on the application forms and fees for TPS, please visit the USCIS TPS web page at http://www.uscis.gov/tps. Fees for the Form I-821, the Form I-765, and biometric services are also described in 8 CFR 103.7(b)(1)(i).

Note: If you have a Form I-821 and/or Form I-765 that was still pending as of April 2, 2019, then you should not file either application again. If your pending TPS application is approved, you will be granted TPS through January 2, 2020. Similarly, if you have a pending TPS-related application for an EAD that is approved, it will be valid through the same date.

Can my employer require that I provide any other documentation to prove my status, such as proof of my citizenship from Sudan, Nicaragua, Haiti, or El Salvador?

No. When completing Form I-9, including reverifying employment authorization, employers must accept any documentation that appears on the Form I-9 “Lists of Acceptable Documents” that reasonably appears to be genuine and that relates to you, or an acceptable List A, List B, or List C receipt. Employers need not reverify List B identity documents. Employers may not request documentation that does not appear on the “Lists of Acceptable Documents.” Therefore, employers may not request proof of citizenship or proof of re-registration for TPS when completing Form I-9 for new hires or reverifying the employment authorization of current employees. If presented with EADs that have been automatically extended, employers should accept such documents as a valid List A document so long as the EAD reasonably appears to be genuine and relates to the employee. Refer to the Note to Employees section of this Federal Register notice for important information about your rights if your employer rejects lawful documentation, requires additional documentation, or otherwise discriminates against you based on your citizenship or immigration status, or your national origin.

How do my employer and I complete Employment Eligibility Verification (Form I-9) using my automatically extended employment authorization for a new job?

When using an automatically extended EAD to complete Form I-9 for a new job on or before January 2, 2020, you and your employer should do the following:

1. For Section 1, you should:

a. Check “An alien authorized to work until” and enter January 2, 2020, as the “expiration date”; and

b. Enter your Alien Number/USCIS number or A-Number where indicated (your EAD or other document from DHS will have your USCIS number or A-Number printed on it; the USCIS number is the same as your A-Number without the A prefix).

2. For Section 2, your employer should:

a. Determine if the EAD is auto-extended:

An employee's EAD has been auto-extended if it contains a category code of A-12 or C-19 and an expiration date shown below:

07/22/2017

11/02/2017

01/05/2018

01/22/2018

03/09/2018

11/02/2018

01/05/2019

04/02/2019

07/22/2019

09/09/2019

If it has been auto-extended, the employer should:

b. Write in the document title;

c. Enter the issuing authority;

d. Provide the document number; and

e. Write January 2, 2020, as the expiration date.

Before the start of work on January 3, 2020, employers are required by law to reverify the employee's employment authorization in Section 3 of Form I-9.

What corrections should my current employer and I make to Employment Eligibility Verification (Form I-9) if my employment authorization has been auto-extended?

If you presented a TPS-related EAD that was valid when you first started your job and your EAD has now been automatically extended, your employer may need to re-inspect your current EAD if they do not have a copy of the EAD on file. You may, and your employer should, correct your previously completed Form I-9 as follows:

1. For Section 1, you may:

a. Draw a line through the expiration date in Section 1;

b. Write January 2, 2020, above the previous date; and

c. Initial and date the correction in the margin of Section 1.

2. For Section 2, employers should:

a. Determine if the EAD is auto-extended:

An employee's EAD has been auto-extended if it contains a category code of A-12 or C-19 and an expiration date shown below:

07/22/2017

11/02/2017

01/05/2018

01/22/2018

03/09/2018

11/02/2018

01/05/2019

04/02/2019

07/22/2019

09/09/2019

If it has been auto-extended:

b. Draw a line through the expiration date written in Section 2;

c. Write January 2, 2020, above the previous date; and

d. Initial and date the correction in the Additional Information field in Section 2.

Note: This is not considered a reverification. Employers do not need to complete Section 3 until either this notice's automatic extension of EADs has ended or the employee presents a new document to show continued employment authorization, whichever is sooner. By January 3, 2020, when the employee's automatically extended EAD has expired, employers are required by law to reverify the employee's employment authorization in Section 3.

If I am an employer enrolled in E-Verify, how do I verify a new employee whose EAD has been automatically extended?

Employers may create a case in E-Verify for these employees by providing the employee's Alien Registration number (A#) or USCIS number as the document number on Form I-9 in the document number field in E-Verify.

If I am an employer enrolled in E-Verify, what do I do when I receive a “Work Authorization Documents Expiration” alert for an automatically extended EAD?

If you have employees who provided a TPS-related EAD with an expiration date that has been auto-extended by this notice, you should dismiss the “Work Authorization Documents Expiring” case alert. Before this employee starts to work on January 3, 2020, you must reverify his or her employment authorization in Section 3 of Form I-9. Employers should not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I9Central@dhs.gov. Calls and emails are accepted in English and many other languages. For questions about avoiding discrimination during the employment eligibility verification process (Form I-9 and E-Verify), employers may call the U.S. Department of Justice's Civil Rights Division, Immigrant and Employee Rights Section (IER) (formerly the Office of Special Counsel for Immigration-Related Unfair Employment Practices) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@dhs.gov. Calls are accepted in English, Spanish, and many other languages. Employees or applicants may also call the IER Worker Hotline at 800-255-7688 (TTY 800-237-2515) for information regarding employment discrimination based upon citizenship, immigration status, or national origin, including discrimination related to Employment Eligibility Verification (Form I-9) and E-Verify. The IER Worker Hotline provides language interpretation in numerous languages.

To comply with the law, employers must accept any document or combination of documents from the Lists of Acceptable Documents if the documentation reasonably appears to be genuine and to relate to the employee, or an acceptable List A, List B, or List C receipt as described in the Employment Eligibility Verification (Form I-9) Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from an employee's Form I-9 differs from records available to DHS.

Employers may not terminate, suspend, delay training, withhold pay, lower pay, or take any adverse action against an employee because of the TNC while the case is still pending with E-Verify. A Final Nonconfirmation (FNC) case result is received when E-Verify cannot verify an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and on the USCIS and E-Verify websites at https://www.uscis.gov/i-9-central and https://www.e-verify.gov.

Note Regarding Federal, State, and Local Government Agencies (Such as Departments of Motor Vehicles)

While Federal Government agencies must follow the guidelines laid out by the Federal Government, state and local government agencies establish their own rules and guidelines when granting certain benefits. Each state may have different laws, requirements, and determinations about what documents you need to provide to prove eligibility for certain benefits. Whether you are applying for a Federal, state, or local government benefit, you may need to provide the government agency with documents that show you are a TPS beneficiary, show you are authorized to work based on TPS or other status, and/or that may be used by DHS to determine whether you have TPS or other immigration status. Examples of such documents are:

(1) Your current EAD;

(2) Your auto-extended EAD with a copy of this Federal Register notice, providing an automatic extension of your currently expired or expiring EAD;

(3) A copy of your Form I-94, (Arrival/Departure Record), or Form I-797, Notice of Action (Approval Notice), that has been auto-extended by this notice and a copy of this notice;

(4) Any other relevant DHS-issued document that indicates your immigration status or authorization to be in the United States, or that may be used by DHS to determine whether you have such status or authorization to remain in the United States.

Check with the government agency regarding which document(s) the agency will accept.

Some benefit-granting agencies use the SAVE program to confirm the current immigration status of applicants for public benefits. In most cases, SAVE provides an automated electronic response to benefit-granting agencies within seconds, but, occasionally, verification can be delayed. You can check the status of your SAVE verification by using CaseCheck at the following link: https://save.uscis.gov/casecheck/, then by clicking the “Check Your Case” button. CaseCheck is a free service that lets you follow the progress of your SAVE verification using your date of birth and one immigration identifier number. If an agency has denied your application based solely or in part on a SAVE response, the agency must offer you the opportunity to appeal the decision in accordance with the agency's procedures. If the agency has received and acted upon or will act upon a SAVE verification and you do not believe the response is correct, you may make an InfoPass appointment for an in-person interview at a local USCIS office. Detailed information on how to make corrections, make an appointment, or submit a written request to correct records under the Freedom of Information Act can be found on the SAVE website at http://www.uscis.gov/save.

[FR Doc. 2019-03783 Filed 2-28-19; 8:45 am]

BILLING CODE 9111-97-P